NATIONAL SCIENCE FOUNDATION

Proposal Review Panel for Materials Research; Notice of Meeting

In accordance with the Federal Advisory Committee Act (Pub. L. 92-463 as amended), the National Science Foundation (NSF) announces the following meeting:

Name and Committee Code: Proposal Review Panel for Materials Research—STC for Integrated Quantum Materials Site Visit (#1203).

Date and Time: May 10, 2017; 8:00 a.m.-7:00 p.m.; May 11, 2017; 8:00 a.m.-4:00 p.m.

Place: Harvard University, 1350 Massachusetts Avenue, Cambridge, MA 02138.

Type of Meeting: Part-Open.

Contact Person: Dr. Tomasz Durakiewicz, Program Director, STC for Integrated Quantum Materials. Division of Materials Research, Room 1065, National Science Foundation, 4201 Wilson Boulevard, Arlington, VA 22230; Telephone (703) 292-4892.

Purpose of Meeting: NSF site visit to provide advice and recommendations concerning further NSF support for the Center.

Agenda:

Wednesday, May 10, 2017—Overview, Research Program and Knowledge Transfer

8:00 a.m.-9:00 a.m. Center Budgets & Management (Closed)

9:00 a.m.-9:30 a.m. Center Vision, Legacy—most important developments

9:30 a.m.-10:00 a.m. NSF Panel Deliberations (Closed)

10:00 a.m.-10:50 a.m. RA1: Novel van der Waals Heterostructures

10:50 a.m.-11:40 a.m. RA2: Discovery of New Topological Crystals

11:40 a.m.-1:10 p.m. Lunch with Students & Panel

1:10 p.m.-2:00 p.m. RA3: Topological Qubits

2:00 p.m.-3:00 p.m. RA4: Quantum Networks

3:00 p.m.-4:00 p.m. Knowledge Transfer, i-lab, industry

4:00 p.m.-5:00 p.m. Poster Session

5:00 p.m.-6:30 p.m. NSF Panel Deliberations (Closed)

6:30 p.m.-7:00 p.m. Overnight Questions (Closed)

7:00 p.m. Working Dinner

Thursday, May 11, 2017—Education and Outreach

8:00 a.m.-9:00 a.m. Meeting with Administration (Closed)

9:00 a.m.-10:30 a.m. Response to Overnight Questions (Closed)

10:30 a.m.-11:15 a.m. Science and Education Community

11:15 a.m.-12:00 p.m. Museum of Science, Boston

12:00 p.m.-1:00 p.m. Working Lunch (Closed)

1:00 p.m.-2:00 p.m. Diversity—Past & Future—most important accomplishments

2:00 p.m.-3:00 p.m. Integration of Research with Education and KT

3:00 p.m.-4:00 p.m. Final Q&A (Closed)

4:00 p.m. Meeting Concludes (Closed)

Reason for Late Notice: Due to unforeseen scheduling complications and the necessity to proceed with review of the Center.

Reason for Closing: The work being reviewed during closed portions of the site visit include information of a proprietary or confidential nature, including technical information; financial data, such as salaries and personal information concerning individuals associated with the projects. These matters are exempt under 5 U.S.C. 552b(c), (4) and (6) of the Government in the Sunshine Act.

Dated: April 18, 2017.
Crystal Robinson,
Committee Management Officer.

[FR Doc. 2017-08103 Filed 4-20-17; 8:45 am]

BILLING CODE 7555-01-P